FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 010099-058.

Title: International Council of Containership Operators.

Parties: A.P. Moller-Maersk A/S; China Shipping Container Lines Co., Ltd.; CMA. CGM, S.A.; Compañía Chilena de Navegación Interoceánica S.A.; Compania SudAmericana de Vapores S.A.; COSCO Container Lines Co. Ltd; Crowley Maritime Corporation; Evergreen Marine Corporation (Taiwan), Ltd.; Hamburg-Süd KG; Hanjin Shipping Co., Ltd.; Hapag-Lloyd AG; Hyundai Merchant Marine Co., Ltd.; Kawasaki Kisen Kaisha, Ltd.; Mediterranean Shipping Co. S.A.; Mitsui O.S.K. Lines, Ltd.; Neptune Orient Lines, Ltd.; Nippon Yusen Kaisha; Orient Overseas Container Line, Ltd.; Pacific International Lines (Pte) Ltd.; United Arab Shipping Company (S.A.G.); Wan Hai Lines Ltd.; Yang Ming Transport Marine Corp.; and Zim Integrated Shipping Services Ltd.

Filing Party: John Longstreth, Esq.; K & L Gates LLP; 1601 K Street NW; Washington, DC 20006-1600.

Synopsis: The amendment deletes STX Pan Ocean Co., Ltd. as a party to the agreement.

Agreement No.: 012157-001.

Title: CSCL/CMA CGM Slot Exchange Agreement Asia—U.S. East Coast.

Parties: China Shipping Container Lines Co., Ltd., China Shipping Container Lines (Hong Kong) Co., Ltd., and CMA CGM S.A.

Filing Party: Draughn B. Arbona, Esq., Senior Counsel, CMA CGM (America), Inc. 5701 Lake Wright Drive, Norfolk, VA 23502-1868

Synopsis: The amendment reduces the number of slots exchanged between CMA and CSCL and also revises the agreement to reflect that Evergreen Line Joint Service Agreement no longer participates on a service operated under the agreement.

Agreement No.: 012168-001.

Title: CSCL/UASC Vessel Sharing Agreement—Asia and U.S. East Coast Service.

Parties: China Shipping Container Lines Co. Ltd. and China Shipping Container Lines (Hong Kong) Co., Ltd. (collectively known as China Shipping); and United Arab Shipping Company S.A.G.

Filing Party: Brett M. Esber, Esquire; Blank Rome LLP; 600 New Hampshire Avenue NW; Washington, DC 20037.

Synopsis: The amendment eliminates a secondary exchange of space between the parties.

Agreement No.: 012216.

Title: Simatech/Zim Space Charter Agreement.

Parties: Simatech Americas S.A. and Zim Integrated Shipping Services, Ltd.

Filing Party: Mark E. Newcomb, Esquire; Zim American Integrated Shipping Services Co, Inc.; 5801 Lake Wright Drive; Norfolk, VA 23508.

Synopsis: The agreement authorizes Simatech to charter space to Zim in the trade between Miami, FL on the one hand, and Guatemala and Honduras, on the other hand.

By Order of the Federal Maritime Commission.
Dated: August 16, 2013.
Rachel E. Dickon,
Assistant Secretary.

[FR Doc. 2013-20398 Filed 8-20-13; 8:45 am]

BILLING CODE 6730-01-P